DEPARTMENT OF ENERGY

Federal Energy Regulatory Commission

[Docket No. PL04-3-000]

Natural Gas Interchangeability; Notice Seeking Comments

May 19, 2005.

On May 17, 2005, the Commission held a technical conference on the above-captioned docket to receive further comments on the Natural Gas Council's reports: White Paper on Liquid Hydrocarbon Drop Out in Natural Gas Infrastructure and White Paper on Natural Gas Interchangeability and Non-Combustion End Use. At the conclusion of the technical conference, Chairman Pat Wood announced that the Commission would entertain further comment on the white papers for twenty-one days. The NGC white papers are accessible on-line at http://www.ferc.gov, using the “eLibrary” link and are available for review in the Commission's Public Reference Room in Washington, DC. The Commission will use the reports and comments received to inform its decisions as to how it should address issues of natural gas quality and natural gas interchangeability.

Chairman Wood further stated that the Commission would also entertain comment on a petition for rulemaking filed by the Natural Gas Supply Association (NGSA) in the captioned docket. Comments on the NGSA petition for rulemaking also will be accepted for twenty-one days.

Comments requested by this Notice should be filed no later than twenty-one days from the date of this Notice, as indicated by the comment date below. The Commission encourages electronic submission of comments in lieu of paper using the “eFiling” link at http://www.ferc.gov. Persons unable to file electronically should submit an original and 14 copies of their comments to the Federal Energy Regulatory Commission, 888 First Street, NE., Washington, DC 20426.

Note that also there is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: June 9, 2005.

Magalie R. Salas,
Secretary.

[FR Doc. E5-2702 Filed 5-26-05; 8:45 am]

BILLING CODE 6717-01-P